DEPARTMENT OF COMMERCE

National Oceanic and Atmospheric Administration

Affirmation of Vertical Datum for Surveying and Mapping Activities for the Territory of Puerto Rico

AGENCY: National Geodetic Survey (NGS), National Ocean Service (NOS), National Oceanic and Atmospheric Administration, Commerce.

ACTION: Notice.

SUMMARY: This Notice announces a decision by the Federal Geographic Data Committee's Federal Geodetic Control Subcommittee in accordance with the Office of Management and Budget, Circular A-16 (http://www.whitehouse.gov/omb/circulars/a016/a016.html), to affirm the Puerto Rico Vertical Datum of 2002 (PRVD02) as the official civilian vertical datum for surveying and mapping activities for the islands of Puerto Rico, Culebra, Mona and Vieques of the Commonwealth of Puerto Rico and to the extent practicable, legally allowable and feasible, require that all Federal agencies, with the exception of those with specific military related applications, using or producing vertical height information undertake an orderly transition to PRVD02.

DATES: Individuals or organizations wishing to submit comments on the adoption of PRVD02 as the official civilian vertical datum for the Territory of Puerto Rico, which includes the islands of Puerto Rico, Culebra, Vieques, and Mona, should do so by August 22, 2012.

ADDRESSES: Written comments should be sent to the attention of David Doyle, Chief Geodetic Surveyor, Office of the National Geodetic Survey, National Ocean Service (N/NGS2), 1315 East-West Highway, #8815, Silver Spring, Maryland, 20910, fax 301-713-4324, or via email Dave.Doyle@noaa.gov.

FOR FURTHER INFORMATION CONTACT: Requests for additional information should be directed to David Doyle, Chief Geodetic Surveyor, National Geodetic Survey (N/NGS2), 1315 East-West Highway, #8815, Silver Spring, MD, 20910; Phone: (301) 713-3178.

SUPPLEMENTARY INFORMATION: The National Ocean Service (NOS), National Geodetic Survey (NGS), has completed the definition and implementation of PRVD02. PRVD02 supersedes all previously published height systems determined by other Federal surveying and mapping agencies on Puerto Rico, Culebra, Vieques and Mona, with the exception of those specifically related to tidal datums and/or military applications. PRVD02 heights are the result of a mathematical least squares general adjustment of the vertical control portion of the National Spatial Reference System (NSRS) and are derived from approximately 700 km of Double-Run, 1st-Oder, Class II geodetic leveling observations (650 km on Puerto Rico, 5 km on Culebra and 45 km on Vieques) undertaken specifically for this project. The basis for all PRVD02 heights is Local Mean Sea Level, for the National Tidal Datum Epoch 1983-2001, as determined by the NOS Center for Operational Oceanographic Products and Services (CO-OPS), and published as part of the National Water Level Observation Network (NWLON) for bench marks designated 975 5371 A TIDAL (PID TV1513) (1.334 meters), located at La Puntilla, San Juan Puerto Rico, 975 2235 D (PID DN8624) (0.973 meters), located on Culebra Island, 975 2695 A (PID DN8535) (1.962 meters), located at Esperanza, Vieques Island, and 975 9938 A (1.158 meters) (PID DN8596) on Mona Island. No leveling is planned for Mona Island; however this value serves as the datum definition for any further geodetic surveying that may be conducted there.

PRVD02 height information for individual geodetic control monuments is available in digital form, from the NGS Web site: http://www.ngs.noaa.gov/cgi-bin/datasheet.prl.

Dated: July 10, 2012.
Juliana P. Blackwell,
Director, Office of National Geodetic Survey, National Ocean Service, National Oceanic and Atmospheric Administration.

[FR Doc. 2012-17600 Filed 7-20-12; 8:45 am]

BILLING CODE 3510-JE-P